DEPARTMENT OF ENERGY

Federal Energy Regulatory Commission

Combined Notice of Filings #1

Take notice that the Commission received the following electric rate filings:

Docket Numbers: ER12-2554-003.

Applicants: Transource Missouri, LLC.

Description: Transource Missouri Compliance Filing to be effective 10/30/2012.

Filed Date: 5/30/13.

Accession Number: 20130530-5084.

Comments Due: 5 p.m. ET 6/20/13.

Docket Numbers: ER13-1249-002.

Applicants: Myotis Power Marketing LLC.

Description: Myotis Power Marketing LLC MBR Tariff to be effective 6/1/2013.

Filed Date: 5/29/13.

Accession Number: 20130529-5146.

Comments Due: 5 p.m. ET 6/19/13.

Docket Numbers: ER13-1579-000.

Applicants: Wisconsin Electric Power Company.

Description: FERC Electric Rate Schedule 500 to be effective 6/1/2013.

Filed Date: 5/29/13.

Accession Number: 20130529-5152.

Comments Due: 5 p.m. ET 6/19/13.

Docket Numbers: ER13-1580-000.

Applicants: PJM Interconnection, L.L.C.

Description: Original Service Agreement No. 3564—Queue Position Y2-099 to be effective 4/30/2013.

Filed Date: 5/29/13.

Accession Number: 20130529-5153.

Comments Due: 5 p.m. ET 6/19/13.

Docket Numbers: ER13-1581-000.

Applicants: Cleco Power LLC.

Description: Amendment to RS35/RS36 for Acadia Pipeline to be effective 5/30/2013.

Filed Date: 5/30/13.

Accession Number: 20130530-5000.

Comments Due: 5 p.m. ET 6/20/13.

Docket Numbers: ER13-1582-000.

Applicants: Southern California Edison Company.

Description: Amended SGIA Sunshine Gas Producers LLC to be effective 5/31/2013.

Filed Date: 5/30/13.

Accession Number: 20130530-5003.

Comments Due: 5 p.m. ET 6/20/13.

Docket Numbers: ER13-1583-000.

Applicants: DATC Path 15, LLC.

Description: Notice of Succession to be effective 4/30/2013.

Filed Date: 5/30/13.

Accession Number: 20130530-5032.

Comments Due: 5 p.m. ET 6/20/13.

Docket Numbers: ER13-1584-000.

Applicants: Southwest Power Pool, Inc.

Description: Revisions to Attachment AD—SPA 2012 Amendatory Agreement to be effective 5/1/2013.

Filed Date: 5/30/13.

Accession Number: 20130530-5046.

Comments Due: 5 p.m. ET 6/20/13.

Docket Numbers: ER13-1585-000.

Applicants: Longfellow Wind, LLC.

Description: Longfellow Wind, LLC submits Application for Market-Based Rate Authorization to be effective 7/30/2013.

Filed Date: 5/30/13.

Accession Number: 20130530-5108.

Comments Due: 5 p.m. ET 6/20/13.

Docket Numbers: ER13-1586-000.

Applicants: TGP Energy Management, LLC.

Description: TGP Energy Management, LLC submits MBR Application to be effective 7/1/2013.

Filed Date: 5/30/13.

Accession Number: 20130530-5110.

Comments Due: 5 p.m. ET 6/20/13.

Take notice that the Commission received the following electric securities filings:

Docket Numbers: ES13-27-000.

Applicants: The United Illuminating Company.

Description: Application for Securities Issuance of The United Illuminating Company.

Filed Date: 5/30/13.

Accession Number: 20130530-5106.

Comments Due: 5 p.m. ET 6/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2013.
Nathaniel J. Davis, Sr.,
Deputy Secretary.

[FR Doc. 2013-13584 Filed 6-6-13; 8:45 am]

BILLING CODE 6717-01-P